DEPARTMENT OF THE INTERIOR

Bureau of Land Management

[OR-104-1430-DE: GPO-0013]

Final Environmental Impact Statement (FEIS)—North Bank Habitat Management Area (NBHMA)

AGENCY: Bureau of Land Management, Department of the Interior.

ACTION: Extension of public review.

SUMMARY: Notice is given that the Bureau of Land Management (BLM), Roseburg District, has extended the period for public review of the North Bank Habitat Management Area FEIS. The FEIS describes and analyzes the environmental impacts of management on the 6,580 acre North Bank Habitat Management Area. This notice was originally published in the Federal Register on September 26, 2000 (page 57825).

DATES: A thirty day (30) day public review period for this document was provided commencing on September 22, 2000. The public review period will be extended an additional fifteen (15) days until November 6, 2000.

ADDRESSES: Request for copies should be addressed to the Field Manager, Swiftwater Field Office, Roseburg District, Bureau of Land Management, 777 NW Garden Valley Blvd., Roseburg, Oregon 97470; Attention NBHMA Project.

FOR FURTHER INFORMATION CONTACT: Ralph Klein (Team Lead) 541-440-4930.

SUPPLEMENTARY INFORMATION: (1) The EIS was written in cooperation with the Oregon Department of Fish and Wildlife and the U.S. Fish and Wildlife Service. (2) The EIS is available on the Roseburg District web site (www.or.blm.gov/roseburg).

Dated: October 19, 2000.
Jay K. Carlson,
Field Manager.

[FR Doc. 00-27375 Filed 10-24-00; 8:45 am]

BILLING CODE 4310-33-P